DEPARTMENT OF ENERGY

Federal Energy Regulatory Commission

[Docket No. RP95-408-045]

Columbia Gas Transmission Corporation; Notice of Filing

May 23, 2002.

Take notice that on May 10, 2002, Columbia Gas Transmission Corporation (Columbia) filed to report on the sharing with its customers of a portion of the profits from the sale of certain base gas as provided in Columbia's Docket No. RP95-408 rate case settlement. See Stipulation II, Article IV, Sections A through E, in Docket No. RP95-408 approved at Columbia Gas Transmission Corp., 79 FERC ¶ 61,044 (1997). Sales of base gas have generated additional profits of $6,285,545 requiring a sharing of 50 percent of the excess profits with customers in accordance with Stipulation II, Article IV, Section C. Consequently, $3,362,403, inclusive of interest, has been allocated to affected customers and credited as a line item to their April 2002 invoices, which credits remain subject to Commission acceptance of this filing.

Columbia states that copies of its filing have been mailed to all firm customers, interruptible customers and affected state commissions.

Any person desiring to protest said filing should file a protest with the Federal Energy Regulatory Commission, 888 First Street, NE., Washington, DC 20426, in accordance with Section 385.211 of the Commission's Rules and Regulations. All such protests must be filed on or before May 30, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-13494 Filed 5-29-02; 8:45 am]

BILLING CODE 6717-01-P